FEDERAL COMMUNICATIONS COMMISSION

[FR ID 238052]

Radio Broadcasting Services; AM or FM Proposals To Change the Community of License

AGENCY: Federal Communications Commission.

ACTION: Notice.

DATES: The agency must receive comments on or before October 15, 2024.

ADDRESSES: Federal Communications Commission, 45 L Street NE, Washington, DC 20554.

FOR FURTHER INFORMATION CONTACT: Rolanda F. Smith, 202-418-2054, Rolanda-Faye.Smith@fcc.gov.

SUPPLEMENTARY INFORMATION: The Media Bureau shall provide notice in the Federal Register that an application to modify an AM or FM station's community of license has been filed. See 71 FR 76208, 76211 (published December 20, 2006). The following applicants filed AM or FM proposals to change the community of license: AKAL MEDIA KKDZ, INC., KKDZ(AM), FAC ID NO. 12112, FROM: SEATTLE, WA, TO: KENT, WA, FILE NO. 0000247664; PROGRESSIVE BROADCASTING SYSTEM, INC., WCMR(AM), FAC ID NO. 53650, FROM: ELKHART, IN, TO: DUNLAP, IN, FILE NO. 0000249659; CSN INTERNATIONAL, INC., KSOA(FM), FAC ID NO. 767193, FROM: SOLEDAD, CA, TO: SOUTH DOS PALOS, CA, FILE NO. 0000246748; AND ELIJAH RADIO, WLJL(FM), FAC ID NO. 764082, FROM: RIVERSIDE, AL, TO: TALLADEGA, AL, FILE NO. 0000247585. The full text of these applications is available electronically via Licensing and Management System (LMS), https://apps2int.fcc.gov/dataentry/public/tv/publicAppSearch.html.

Federal Communications Commission.
Nazifa Sawez,
Assistant Chief, Audio Division, Media Bureau.

[FR Doc. 2024-18194 Filed 8-14-24; 8:45 am]

BILLING CODE 6712-01-P